DEPARTMENT OF LABOR

Employment and Training Administration

[TA-W-37,949]

Smith & Nephew, Inc., Casting Division, Charlotte, NC; Notice of Termination of Investigation

Pursuant to section 221 of the Trade Act of 1974, an investigation was initiated on August 7, 2000, in response to a worker petition which was filed by the company on behalf of its workers at Smith & Nephew, Inc., Casting Division, Charlotte, North Carolina.

The petitioner has requested that the petition be withdrawn. Consequently, further investigation in this case would serve no purpose, and the investigation has been terminated.

Signed in Washington, DC, this 23rd day of August, 2000.
Grant D. Beale,
Program Manager, Division of Trade Adjustment Assistance.

[FR Doc. 00-23509 Filed 9-12-00; 8:45 am]

BILLING CODE 4510-30-M